DEPARTMENT OF HOUSING AND URBAN DEVELOPMENT

[Docket No. FR-5700-FA-12]

Announcement of Funding Awards for Healthy Homes Technical Studies Program for Fiscal Year (FY) 2013

AGENCY: Office of Healthy Homes and Lead Hazard Control, HUD.

ACTION: Announcement of Funding Awards.

SUMMARY: In accordance with Section 102(a)(4)(C) of the Department of Housing and Urban Development Reform Act of 1989, this announcement notifies the public of funding decisions made by the Department in a competition for funding under the Office of Healthy Homes and Lead Hazard Control (OHHLHC), Healthy Homes Technical Studies Grant Program Notice of Funding Availability. This announcement contains the name and address of the award recipients and the amounts of awards under the Consolidated and Further Appropriations Act, 2013.

FOR FURTHER INFORMATION CONTACT: Matthew E. Ammon, Department of Housing and Urban Development, Office of Healthy Homes and Lead Hazard Control, Room 8236, 451 Seventh Street SW., Washington, DC 20410, telephone 202-402-4337. Hearing- and speech- impaired persons may access the number above via TTY by calling the toll free Federal Relay Service at 1-800-877-8339.

SUPPLEMENTARY INFORMATION:

HUD announced the FY 2013 awards on August 16, 2013. These awards were the result of a competition posted on the Internet at Grants.gov on January 15, 2013, for the Healthy Homes Technical Studies Grant Program. The purpose of the competition was to award funding for cooperative agreements for the Office of Healthy Homes and Lead Hazard Control Grant Program.

Applications were scored and selected on the basis of selection criteria contained in this Notice. A total of $10,499,595 was awarded under the Consolidated and Further Continuing Appropriations Act, 2013 (Pub. L. 113-6, approved May 13, 2013). In accordance with Section 102(a)(4)(C) of the Department of Housing and Urban Development Reform Act of 1989 (103 Stat. 1987; 42 U.S.C. 3545), the Department is publishing the names, addresses, and the amount of these awards as follows:

Alaska Native Tribal Health Consortium, 4000 Ambassador Drive, Anchorage, AK 99508-5909, $743,044; American Lung Association of the Upper Midwest, 3000 Kelly Lane, Springfield, IL 62711-6226, $690,558; Sinai Health System, 1500 S. California, Chicago, IL 60608-1797, $749,931; The Board of Trustees of the University of Illinois, Office of Sponsored Programs & Research Administration, 1901 South First Street, Suite A, Champaign, IL 61820-7406, $747,566; Tulane University, 1430 Tulane Avenue, EP 15, New Orleans, LA 70112-2632, $748,610; University of Massachusetts Lowell, One University Avenue, Lowell, MA 01854-2827, $749,999; University of Maryland, Baltimore County, 1000 Hilltop Circle, Baltimore, MD 21250-0001, $749,856; The Children's Mercy Hospital, 2401 Gillham Road, Kansas City, MO 64108-4619, $748,727; North Carolina State University, Research Administration, 2701 Sullivan Drive, Admin Services III, Box 7514, Raleigh, NC 27695-7514, $735,264; Rutgers, The State University of New Jersey, Office of Research and Sponsored Programs, ASB III, 3 Rutgers Plaza, New Brunswick, NJ 08901-8559, $342,905; Rutgers, The State University of New Jersey, 3 Rutgers Plaza, ASB III, 2nd Floor New Brunswick, NJ 08901-8559, $687,000; Board of Regents, NSHE, obo University of Nevada, Las Vegas, 4505 S. Maryland Parkway, Box 451055, Las Vegas, NV 89154-1055, $650,000; The Trustees of Columbia University in the City of New York, 630 West 168th Street—Box 49, New York, NY 10032-3702, $722,378; Case Western Reserve University, 10900 Euclid Avenue, Cleveland, OH 44106-4919, $749,952; The University of Texas at Austin, Office of Sponsored Projects, 101 E. 27th Street, Austin, TX 78712-1532, $683,805.

Date: January 23, 2014.
Matthew E. Ammon,
Deputy Director, Office of Healthy Homes and Lead Hazard Control.

[FR Doc. 2014-02058 Filed 1-30-14; 8:45 am]

BILLING CODE 4210-67-P